DEPARTMENT OF STATE

[Public Notice: 9961]

U.S. Department of State Advisory Committee on Private International Law (ACPIL): Public Meeting onMicro-, Small-, and Medium Sized Enterprises

The Office of the Assistant Legal Adviser for Private International Law, Department of State, hereby gives notice that the Micro-, Small-, and Medium sized enterprises (MSMEs) study group of the Advisory Committee on Private International Law (ACPIL) will hold a public meeting via teleconference. The ACPIL UNCITRAL MSME Study Group will hold the teleconference meeting to discuss the next session of the UNCITRAL Working Group I-MSME scheduled for May 1-9 in New York. This is not a meeting of the full Advisory Committee.

UNCITRAL has established a working group aimed at reducing the legal obstacles faced by MSMEs throughout their life cycle, and in particular those in developing countries. UNCITRAL further directed that the work should start with a focus on the legal issues surrounding the simplification of registration and incorporation. At its upcoming session, the UNCITRAL Working Group I-MSME will consider a draft legislative guide on key principles of business registration (UN Doc. A/CN.9/WG.I/WP.101) (from May 1-5) and a draft legislative guide on a simplified business entity (UN Doc. A/CN.9/WG.I/WP.99 and Add.1) (from May 8-9). The Working Group will also consider future work. At its first session, the Working Group “acknowledged and welcomed the Commission's mandate relative to the establishment of an enabling legal environment to facilitate the life cycle of MSMEs, beginning with the implementation of simplified rules of registration, incorporation and operation of such enterprises, in addition to other topics such as financial inclusion, including mobile payments, access to credit, alternative dispute resolution and simplified insolvency rules.” (UN Doc. A/CN.9/800, para 66). The draft texts, along with the reports of earlier sessions of the Working Group will be available at http://www.uncitral.org/uncitral/en/commission/working_groups/1MSME.html.

Time and Place: The meeting of the ACPIL UNCITRAL MSME Study Group will take place on Friday April 28, from 10 a.m. to 12:00 p.m. EDT via teleconference.

Public Participation: Those planning to participate should email pil@state.gov to obtain the call-in number.

Michael J. Dennis,
Attorney-Adviser, Office of Private International Law, Office of the Legal Adviser, Department of State.

[FR Doc. 2017-07564 Filed 4-13-17; 8:45 am]

BILLING CODE 4710-08-P